DEPARTMENT OF COMMERCE

National Oceanic and Atmospheric Administration

RIN 0648-XE444

Pacific Fishery Management Council; Public Meetings

AGENCY: National Marine Fisheries Service, National Oceanic and Atmospheric Administration, Commerce.

ACTION: Notice of public meetings.

SUMMARY: The Pacific Council and its advisory entities will hold public meetings.

DATES: The Pacific Council and its advisory entities will meet March 8-14, 2016. The Pacific Council meeting will begin on Wednesday, March 9, 2016 at 8 a.m., reconvening each day through Monday, March 14, 2016. All meetings are open to the public, except a closed session will be held at 8 a.m. on Wednesday, March 9 to address litigation and personnel matters. The Pacific Council will meet as late as necessary each day to complete its scheduled business.

ADDRESSES: Meetings of the Council and its advisory entities will be held at the Doubletree by Hilton Sacramento, 2001 Point West Way, Sacramento, CA 95815; telephone: (916) 929-8855.

Council address: Pacific Fishery Management Council, 7700 NE Ambassador Place, Suite 101, Portland, OR 97220. Instructions for attending the meeting via live stream broadcast are given under SUPPLEMENTARY INFORMATION, below.

FOR FURTHER INFORMATION CONTACT: Dr. Donald O. McIsaac, Executive Director; telephone: (503) 820-2280 or (866) 806-7204 toll free; or access the Pacific Council Web site, http://www.pcouncil.org for the current meeting location, proposed agenda, and meeting briefing materials.

SUPPLEMENTARY INFORMATION: The March 9-14, 2016 meeting of the Pacific Council will be streamed live on the internet. The broadcasts begin at 9 a.m. Pacific Time (PT) Wednesday, March 9, 2016 and continue daily through Monday, March 14, 2016. Broadcasts end daily at 6 p.m. PT or when business for the day is complete. Only the audio portion and presentations displayed on the screen at the Pacific Council meeting will be broadcast. The audio portion is listen-only; you will be unable to speak to the Pacific Council via the broadcast. To access the meeting online please use the following link: http://www.gotomeeting.com/online/webinar/join-webinar and enter the March Webinar ID, 112-257-227 and your email address. You can attend the webinar online using a computer, tablet, or smart phone, using the GoToMeeting application. It is recommended that you use a computer headset to listen to the meeting, but you may use your telephone for the audio portion only of the meeting. The audio portion may be attended using a telephone by dialing the toll number 1-631-992-3221 (not a toll-free number), audio access code 788-106-977, and enter the audio pin shown after joining the webinar.

The following items are on the Pacific Council agenda, but not necessarily in this order. Agenda items noted as “(Final Action)” refer to actions requiring the Council to transmit a proposed fishery management plan, proposed plan amendment, or proposed regulations to the Secretary of Commerce, under Sections 304 or 305 of the Magnuson-Stevens Fishery Conservation and Management Act. Additional detail on agenda items, Council action, advisory entity meeting times, and meeting rooms are described in Agenda Item A.4, Proposed Council Meeting Agenda, and will be in the advance March 2016 briefing materials and posted on the Council Web site at www.pcouncil.org.

A. Call to Order

1. Opening Remarks

2. Roll Call

3. Executive Director's Report

4. Approve Agenda

B. Open Comment Period

1. Comments on Non-Agenda Items

C. Habitat

1. Current Habitat Issues

D. Ecosystem Management

1. California Current Ecosystem Report Including Integrated Ecosystem Assessment

2. Update on Coordinated Ecosystem Indicator Review Initiative

E. Salmon Management

1. National Marine Fisheries Service Report

2. Review of 2015 Fisheries and Summary of 2016 Stock Abundance

Forecasts

3. Chinook Fishery Regulation Assessment Model (FRAM) Co-manager

Update

4. Identification of Management Objectives and Preliminary Definition of

2016 Salmon Management Alternatives Including Test Fishery Alternatives

5. Council Recommendations for 2016 Management Alternative Analysis

6. Further Council Direction for 2016 Management Alternatives

7. Adoption of 2016 Management Alternatives for Public Review

8. Salmon Hearing Officers

9. Sacramento River Winter Chinook Control Rule Update

F. Highly Migratory Species Management

1. National Marine Fisheries Service Report

2. Report on Ongoing Exempted Fishing Permits

3. Deep-Set Buoy Gear Amendment Scoping

4. Recommendations for International Management Activities Including

U.S.-Canada Albacore Treaty Area Fishery Update

G. Groundfish Management

1. National Marine Fisheries Service Report

2. Exempted Fishing Permit (EFP) for California Mid-Water Commercial Jig

Gear for 2017-18

3. Biennial Harvest Specifications and Management Measures for 2017-18

Groundfish Fisheries

4. Consideration of Inseason Adjustments, Including Carryover

5. Oregon Mid-Water Sport Fishery Regulations (Final Action)

6. Salmon Endangered Species Act (ESA) Consultation Update

7. Electronic Monitoring Exempted Fishing Permit Update and Revisions

8. Changes to Trawl Catch Share Program Gear Regulations (Final Action)

H. Pacific Halibut Management

1. Report on the International Pacific Halibut Commission Meeting

2. Incidental Catch Recommendation Options for the Salmon Troll and Final

Recommendations for Fixed Gear Sablefish Fisheries (Final Action)

3. Halibut Incidental Groundfish Regulations (Final Action)

I. Administrative Matters

1. Approval of Council Meeting Record

2. Membership Appointments and Council Operating Procedures

3. Future Council Meeting Agenda and Workload Planning

Schedule of Ancillary Meetings
Day 1—Tuesday, March 8, 2016
Ecosystem Advisory Subpanel | 8 a.m.
Ecosystem Workgroup | 8 a.m.
Habitat Committee | 8:30 a.m.
Sacramento River Winter Chinook Workgroup | 1 p.m.
Scientific and Statistical Committee | 1 p.m.
Day 2—Wednesday, March 9, 2016
California State Delegation | 7 a.m.
Oregon State Delegation | 7 a.m.
Washington State Delegation | 7 a.m.
Ecosystem Advisory Subpanel | 8 a.m.
Scientific and Statistical Committee | 8 a.m.
Salmon Advisory Subpanel | 8 a.m.
Salmon Technical Team | 8 a.m.
Enforcement Consultants | 3 p.m.
Tribal Policy Group | Ad hoc.
Tribal and Washington Technical Group | Ad hoc.
Day 3—Thursday, March 10, 2016
California State Delegation | 7 a.m.
Oregon State Delegation | 7 a.m.
Washington State Delegation | 7 a.m.
Highly Migratory Species Advisory Subpanel | 8 a.m.
Highly Migratory Species Management Team | 8 a.m.
Salmon Advisory Subpanel | 8 a.m.
Salmon Technical Team | 8 a.m.
Scientific and Statistical Committee Coastal Pelagic Species Subcommittee | 8 a.m.
Enforcement Consultants | Ad hoc.
Tribal Policy Group | Ad hoc.
Tribal and Washington Technical Group | Ad hoc.
Day 4—Friday, March 11, 2016
California State Delegation | 7 a.m.
Oregon State Delegation | 7 a.m.
Washington State Delegation | 7 a.m.
Groundfish Advisory Subpanel | 8 a.m.
Groundfish Management Team | 8 a.m.
Highly Migratory Species Advisory Subpanel | 8 a.m.
Highly Migratory Species Management Team | 8 a.m.
Salmon Advisory Subpanel | 8 a.m.
Salmon Technical Team | 8 a.m.
Enforcement Consultants | Ad hoc.
Tribal Policy Group | Ad hoc.
Tribal and Washington Technical Group | Ad hoc.
Day 5—Saturday, March 12, 2016
California State Delegation | 7 a.m.
Oregon State Delegation | 7 a.m.
Washington State Delegation | 7 a.m.
Groundfish Advisory Subpanel | 8 a.m.
Groundfish Management Team | 8 a.m.
Highly Migratory Species Advisory Subpanel | 8 a.m.
Highly Migratory Species Management Team | 8 a.m.
Salmon Advisory Subpanel | 8 a.m.
Salmon Technical Team | 8 a.m.
Enforcement Consultants | Ad hoc.
Tribal Policy Group | Ad hoc.
Tribal and Washington Technical Group | Ad hoc.
Day 6—Sunday, March 13, 2016
California State Delegation | 7 a.m.
Oregon State Delegation | 7 a.m.
Washington State Delegation | 7 a.m.
Groundfish Advisory Subpanel | 8 a.m.
Groundfish Management Team | 8 a.m.
Salmon Advisory Subpanel | 8 a.m.
Salmon Technical Team | 8 a.m.
Enforcement Consultants | Ad hoc.
Tribal Policy Group | Ad hoc.
Tribal and Washington Technical Group | Ad hoc.
Day 7—Monday, March 14, 2016
California State Delegation | 7 a.m.
Oregon State Delegation | 7 a.m.
Washington State Delegation | 7 a.m.

Although non-emergency issues not contained in this agenda may come before this Council for discussion, those issues may not be the subject of formal Council action during these meetings. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Kris Kleinschmidt at (503) 820-2280 at least 5 days prior to the meeting date.

Dated: February 10, 2016.
Tracey L. Thompson,
Acting Deputy Director, Office of Sustainable Fisheries, National Marine Fisheries Service.

[FR Doc. 2016-03134 Filed 2-16-16; 8:45 am]

BILLING CODE 3510-22-P